DEPARTMENT OF THE INTERIOR

Office of the Secretary

Guam War Claims Review Commission; Establishment and Notice of Meeting

The Guam War Claims Review Commission, established by the Secretary of the Interior pursuant to Public Law 107-333, will meet to organize the Commission and begin planning its work on Friday, October 3, 2003, from 10 a.m. to noon, in room 7000A, Department of the Interior, 1849 C Street, NW., Washington, DC 20240. Members of the public may attend the meeting in person.

Any member of the public wishing further information concerning the meeting or a draft meeting agenda should communicate with Mr. Stephen Sander, Designated Federal Official for the Guam War Claims Review Commission, Office of Insular Affairs, Department of the Interior, Washington, DC 20240, phone (202) 208-4754, telecopier (202) 501-7759, or via e-mail at Stephen_Sander@os.doi.gov.

Stephen D. Sander,
Designated Federal Officer, Guam War Claims Review Commission.

[FR Doc. 03-24067 Filed 9-18-03; 8:45 am]

BILLING CODE 4310-93-M